DEPARTMENT OF THE TREASURY

Customs Service

19 CFR Part 24

[T.D. 01-34]

RIN 1515-AC82

Amended Procedure for Refunds of Harbor Maintenance Fees Paid on Exports of Merchandise

AGENCY: Customs Service, Department of the Treasury.

ACTION: Interim regulations; correcting amendment.

SUMMARY: This document contains corrections to the interim regulations (T.D. 01-25), which were published in the Federal Register on March 28, 2001. The interim regulations provide a new procedure for requesting refunds of harbor maintenance fees that were paid on exports. The correction involves the address to which refund requests for all quarterly paid harbor maintenance fees must be sent.

DATES: Effective on March 28, 2001.

FOR FURTHER INFORMATION CONTACT: Deborah Thompson, Accounts Receivable Branch, Accounting Services Division, (317) 298-1200 (ext. 4003).

SUPPLEMENTARY INFORMATION:

Background

Interim regulations providing a new procedure for requesting refunds of harbor maintenance fees that were paid on exports were published as T.D. 01-25 in the Federal Register (66 FR 16854) on Wednesday, March 28, 2001. The interim regulation amended § 24.24(e)(4), Customs Regulations (19 CFR 24.24(e)(4)). An error was contained in paragraphs (e)(4)(i) and (e)(4)(ii)(A) of § 24.24 regarding the zip code in the address to send requests for refunds for harbor maintenance fees paid on both export and non-export movements. This document corrects that error. The correct address to send requests for quarterly paid harbor maintenance fee refunds is: U.S. Customs Service, HMT Refunds, 6026 Lakeside Blvd., Indianapolis, IN 46278.

List of Subjects in 19 CFR Part 24

Accounting, Claims, Customs duties and inspection, Fees, Financial and accounting procedures, Imports, Taxes, User Fees.

Amendment to the Regulations

For the reasons stated in the preamble, part 24 of the Customs Regulations (19 CFR part 24) is corrected as follows:

PART 24—CUSTOMS FINANCIAL AND ACCOUNTING PROCEDURE

1. The authority citation for part 24 continues to read in part as follows:

Authority: 5 U.S.C. 301; 19 U.S.C. 58a—58c, 66,1202 (General Note 22, Harmonized Tariff Schedule of the United States), 1505, 1624; 26 U.S.C. 4461, 4462; 31 U.S.C. 9701.

* * * * *

2. Section 24.24 is amended by revising the third sentence of paragraph (e)(4)(i) and the first sentence of paragraph (e)(4)(ii)(A) to read as follows: § 24.24 Harbor maintenance fee.

(e) * * *

(4) * * *

(i) A refund request should be mailed to: U.S. Customs Service, HMT Refunds, 6026 Lakeside Blvd., Indianapolis, Indiana 46278. * * *

(ii) * * *

(A) For export fee payments made prior to July 1, 1990, the exporter (the name that appears on the SED or equivalent documentation authorized under 15 CFR 30.39(b)) or its agent must submit a letter of request for a refund to the U.S. Customs Service, HMT Refunds, 6026 Lakeside Blvd., Indianapolis, IN 46278, specifying the grounds for the refund and identifying the specific payments made. * * *

* * * * *

Dated: April 23, 2001.
Stuart P. Seidel,
Assistant Commissioner, Office of Regulations and Rulings.

[FR Doc. 01-10484 Filed 4-26-01; 8:45 am]

BILLING CODE 4820-02-P